DEPARTMENT OF THE TREASURY

Office of the Comptroller of the Currency

Agency Information Collection Activities: Proposed Information Collection; Submission for OMB Review; Domestic Credit Card Data

AGENCY: Office of the Comptroller of the Currency (OCC), Treasury.

ACTION: Notice and request for comment.

SUMMARY: The OCC, as part of its continuing effort to reduce paperwork and respondent burden, invites the general public and other Federal agencies to take this opportunity to comment on an information collection, as required by the Paperwork Reduction Act of 1995 (PRA).

In accordance with the requirements of the PRA, the OCC may not conduct or sponsor, and the respondent is not required to respond to, an information collection unless it displays a currently valid Office of Management and Budget (OMB) control number.

The OCC is soliciting comment concerning its proposed information collection titled, “Domestic Credit Card Data.” The OCC also is giving notice that the collection has been submitted to OMB for review.

DATES: You should submit written comments by: July 22, 2015.

ADDRESSES: Because paper mail in the Washington, DC area and at the OCC is subject to delay, commenters are encouraged to submit comments by email, if possible. Comments may be sent to: Legislative and Regulatory Activities Division, Office of the Comptroller of the Currency, Attention: 1557-NEW, 400 7th Street SW., Suite 3E-218, Mail Stop 9W-11, Washington, DC 20219. In addition, comments may be sent by fax to (571) 465-4326 or by electronic mail to prainfo@occ.treas.gov. You may personally inspect and photocopy comments at the OCC, 400 7th Street SW., Washington, DC 20219. For security reasons, the OCC requires that visitors make an appointment to inspect comments. You may do so by calling (202) 649-6700. Upon arrival, visitors will be required to present valid government-issued photo identification and submit to security screening in order to inspect and photocopy comments.

All comments received, including attachments and other supporting materials, are part of the public record and subject to public disclosure. Do not include any information in your comment or supporting materials that you consider confidential or inappropriate for public disclosure.

Additionally, please send a copy of your comments by mail to: OCC Desk Officer, 1557-NEW, U.S. Office of Management and Budget, 725 17th Street NW., #10235, Washington, DC 20503, or by email to: oira_submission@omb.eop.gov.

FOR FURTHER INFORMATION CONTACT: Shaquita Merritt, OCC Clearance Officer, (202) 649-5490, for persons who are deaf or hard of hearing, TTY, (202) 649-5597, Legislative and Regulatory Activities Division, Office of the Comptroller of the Currency, 400 7th Street SW., Washington, DC 20219.

SUPPLEMENTARY INFORMATION: The OCC is requesting approval on its proposed information collection.

Title: Domestic Credit Card Data.

OMB Control Number: To be assigned by OMB.

Description This collection involves the provision of monthly comprehensive credit card account-level data to the OCC. The OCC requires this comprehensive credit card data to obtain a detailed picture of the activities of national bank credit card issuers. The scope of the credit card data includes domestic general purpose, private label, and business card portfolios (excluding corporate and government). Additionally, it includes credit bureau attributes at the account-level and portfolio-level data. The collection request covers all credit card receivables managed by the largest national banks credit card issuers and their subsidiaries. The credit card account-level data requested uses common definitions and data elements for asset quality metrics (delinquencies, losses, etc.), forbearance activities, and segmentation by credit quality risk indicators (such as credit scores). The credit card portfolio-level data request uses common definitions and data elements for portfolio performance metrics not likely to be captured at the account level. The account-level data collection frequency is monthly with credit attributes collected quarterly; the portfolio-level data collection is quarterly using month-end data for each month in the quarter. The data is subject to an information security program to ensure its confidentiality.

This collection supports OCC's efforts to perform risk-based supervision of large banks by enhancing its benchmarking and analytic capabilities. Comprehensive credit card data allows early warning analysis and benchmarking across the largest federally-regulated credit card issuers. A standard set of data elements and definitions allows sound conclusions to be drawn regarding the credit card industry. The data are important and necessary to support supervisory activities to ensure the safety and soundness of the federal banking system.

Type of Review: Regular review.

Affected Public: Businesses or other for-profit.

Estimated Number of Respondents: 17 (16 institutions; 1 credit bureau).

Estimated Annual Responses per Respondent: 12.

Estimated Burden per Response: 430 hours.

Estimated Total Annual Burden: 87,720 hours.

An agency may not conduct or sponsor, and a respondent is not required to respond to, an information collection unless the information collection displays a currently valid OMB control number.

The OCC issued a notice regarding this collection for 60 days of comment on September 5, 2014, (79 FR 53101). The OCC received two comments regarding the collection from two trade associations.

One trade association recommended that the OCC: (a) Extend the comment period for the information collection; (b) publish a copy of the proposed information collection; and (c) provide sufficient additional detail to permit informed comment.

The other trade association acknowledged that, while the notice provided a general description of the data requested, it did not include the specific data templates. In addition, it was not clear to the commenter which national banks would be subject to the data collection, the timeframe for submission, and the effective date of the collection. The commenter also suggested that the data collection might duplicate data that banking organizations already are providing to the Federal Reserve Board (FRB) in connection with the FR Y-14 reporting requirements and pointed out that the potential for duplication is especially relevant to national banks that are the dominant subsidiary in a holding company structure. The commenter recommended coordination of the data collection with the FRB to minimize duplicative or divergent reporting requirements. The commenter suggested that the OCC consider accepting data currently submitted to the FRB in connection with the FR Y-14 in satisfaction of the data collection or work with the FRB to establish a single set of data with identical file layouts and definitions. The commenter also suggested, as an alternative, having the FRB add data elements to the FR Y-14 that designate whether a loan is part of the bank or a non-bank affiliate.

The request to extend the existing comment period, publish a copy of the proposed collection, and provide sufficient additional detail to permit informed comment will be met by issuance of the 30-day notice and the Information Collection Request (ICR) submission to OMB. For example, the ICR will include a Supporting Statement and a copy of the field definitions for account-level data. Additional details requested by the commenters will be included in the Supporting Statement. Furthermore, the OCC is actively exploring use of the FRB's FR Y-14 data, where possible, in order to decrease banks' reporting burden.

One commenter also indicated that the legal authority permitting the OCC to collect this information and the purpose of the collection were not disclosed. Federal law provides the OCC with extensive authority to require records and information from national banks, Federal savings associations, and their subsidiaries.¹ The purpose of the collection is required to be included in the Supporting Statement filed as part of the ICR.

¹ See, e.g.,12 U.S.C. 481, 484, 1464(d)(1)(B).

The OCC understands the commenters concerns and will carefully consider all comments submitted in response to the 30-day notice.

Comments continue to be invited on:

(a) Whether the collection of information is necessary for the proper performance of the functions of the OCC, including whether the information shall have practical utility;

(b) The accuracy of the OCC's estimate of the burden of the collection of information;

(c) Ways to enhance the quality, utility, and clarity of the information to be collected;

(d) Ways to minimize the burden of the collection on respondents, including through the use of automated collection techniques or other forms of information technology; and

(e) Estimates of capital or start-up costs and costs of operation, maintenance, and purchase of services to provide information.

Dated: June 16, 2015.
Stuart E. Feldstein,
Director, Legislative and Regulatory Activities Division.

[FR Doc. 2015-15254 Filed 6-19-15; 8:45 am]

BILLING CODE 4810-33-P